DEPARTMENT OF ENERGY

Federal Energy Regulatory Commission

Notice of FERC Staff Attendance at the Entergy Regional State Committee Meeting

The Federal Energy Regulatory Commission (Commission) hereby gives notice that members of its staff may attend the meeting noted below. Their attendance is part of the Commission's ongoing outreach efforts.

Entergy Regional State Committee

December 2, 2014 (9:30 a.m.-12:30 p.m. Central)

This meeting will be held at the Hilton Austin, 500 East 4th St., Austin, TX 78701.

The discussions may address matters at issue in the following proceedings:

Docket No. EL01-88, Louisiana Public Service Commission v. Entergy Services, Inc.

Docket No. EL09-50, Louisiana Public Service Commission v. Entergy Services, Inc.

Docket No. EL09-61, Louisiana Public Service Commission v. Entergy Services, Inc.

Docket No. EL10-55, Louisiana Public Service Commission v. Entergy Services, Inc.

Docket No. EL10-65, Louisiana Public Service Commission v. Entergy Services, Inc.

Docket No. EL11-30, Midcontinent Independent System Operator, Inc. v. Southwest Power Pool, Inc.

Docket No. EL11-34, Midwest Independent Transmission System Operator, Inc. v. Southwest Power Pool, Inc.

Docket No. EL11-57, Louisiana Public Service Commission v. Entergy Services, Inc., et al.

Docket No. EL11-63, Louisiana Public Service Commission v. Entergy Services, Inc.

Docket No. EL11-65, Louisiana Public Service Commission v. Entergy Services, Inc.

Docket No. EL13-41, Occidental Chemical Company v. Midwest Independent System Transmission Operator, Inc.

Docket No. EL14-19, Midcontinent Independent System Operator and Entergy Services, Inc.

Docket No. EL14-21, Southwest Power Pool, Inc. v. Midcontinent Independent System Operator, Inc.

Docket No. EL14-46, Ameren Services Co.

Docket No. ER07-956, Entergy Services, Inc.

Docket No. ER08-1056, Entergy Services, Inc.

Docket No. ER09-1224, Entergy Services, Inc.

Docket No. ER10-794 Entergy Services, Inc.

Docket No. ER10-1350, Entergy Services, Inc.

Docket No. ER10-2001, Entergy Arkansas, Inc.

Docket No. ER10-3357, Entergy Arkansas, Inc.

Docket No. ER11-2161, Entergy Texas, Inc.

Docket No. ER11-3658, Entergy Services, Inc.

Docket No. ER12-1384, Entergy Arkansas, Inc.

Docket No. ER12-1385, Entergy Gulf States Louisiana, L.L.C.

Docket No. ER12-1386, Entergy Louisiana, LLC

Docket No. ER12-1387, Entergy Mississippi, Inc.

Docket No. ER12-1388, Entergy New Orleans, Inc.

Docket No. ER12-1390, Entergy Texas, Inc.

Docket No. ER12-1920, Entergy Services, Inc.

Docket No. ER13-432, Entergy Services, Inc.

Docket No. ER13-769, Entergy Arkansas, Inc. and Entergy Mississippi, Inc.

Docket No. ER13-770, Entergy Arkansas, Inc. and Entergy Louisiana, LLC.

Docket No. ER13-948, Entergy Services, Inc.

Docket No. ER13-1195, Entergy Services, Inc.

Docket No. ER13-1317, Entergy Arkansas, Inc.

Docket No. ER13-1508, Entergy Arkansas, Inc.

Docket No. ER13-1509, Entergy Gulf States Louisiana, L.L.C.

Docket No. ER13-1510, Entergy Louisiana, LLC

Docket No. ER13-1511, Entergy Mississippi, Inc.

Docket No. ER13-1512, Entergy New Orleans, Inc.

Docket No. ER13-1513, Entergy Texas, Inc.

Docket No. ER13-1595, Entergy Services, Inc.

Docket No. ER13-1623, Entergy Services, Inc.

Docket No. ER14-73, Entergy Services, Inc.

Docket No. ER14-75, Entergy Arkansas, Inc.

Docket No. ER14-76, Entergy Gulf States Louisiana, L.L.C.

Docket No. ER14-77, Entergy Louisiana, LLC

Docket No. ER14-78, Entergy Mississippi, Inc.

Docket No. ER14-79, Entergy New Orleans, Inc.

Docket No. ER14-80, Entergy Texas, Inc.

Docket No. ER14-89, Entergy Arkansas, Inc.

Docket No. ER14-108, Entergy Services, Inc.

Docket No. ER14-128, Entergy Texas, Inc.

Docket No. ER14-148, Midcontinent Independent System Operator

Docket No. ER14-673, Entergy Arkansas, Inc.

Docket No. ER14-693, Entergy Services, Inc.

Docket No. ER14-694, Entergy Services, Inc.

Docket No. ER14-696, Entergy Services, Inc.

Docket No. ER14-697, Entergy Services, Inc.

Docket No. ER14-700, Entergy Services, Inc.

Docket No. ER14-702, Entergy Services, Inc.

Docket No. ER14-703, Entergy Services, Inc.

Docket No. ER14-704, Entergy Services, Inc.

Docket No. ER14-1174, Southwest Power Pool, Inc.

Docket No. ER14-1263, Entergy Gulf States Louisiana, L.L.C.

Docket No. ER14-1264, Entergy Louisiana, LLC

Docket No. ER14-1265, Entergy Mississippi, Inc.

Docket No. ER14-1266, Entergy New Orleans, Inc.

Docket No. ER14-1267, Entergy Texas, Inc.

Docket No. ER14-1268, Entergy Arkansas, Inc.

Docket No. ER14-1328, Entergy Louisiana, LLC

Docket No. ER14-1329, Entergy Gulf States Louisiana, L.L.C.

Docket No. ER14-2085, Entergy Services, Inc.

Docket No. ER14-2850, Southwest Power Pool, Inc.

Docket No. ER14-2851, Southwest Power Pool, Inc.

These meetings are open to the public.

For more information, contact Patrick Clarey, Office of Energy Market Regulation, Federal Energy Regulatory Commission at (317) 249-5937 or patrick.clarey@ferc.gov.

Dated: November 25, 2014.
Kimberly D. Bose,
Secretary.

[FR Doc. 2014-28491 Filed 12-3-14; 8:45 am]

BILLING CODE 6717-01-P